DEPARTMENT OF AGRICULTURE

Natural Resources Conservation Service

[Docket No. NRCS-2011-0019]

Notice To Request an Extension and Revision of Currently Approved Information Collection and Request for Comments.

AGENCY: Natural Resources Conservation Service.

ACTION: Notice to Request an Extension of a Currently Approved Information Collection and request for comments.

SUMMARY: The Natural Resources Conservation Service (NRCS) published in the Federal Register of October 22, 2008, a “Notice to Reinstate a Previously Approved Information Collection” for volunteer workers (73 FR 62949). In accordance with the Paperwork Reduction Act of 1995 (44 U.S.C. chapter 35), this notice announces the intention of NRCS to request an extension for currently approved information collection, Volunteer Program-Earth Team. This information collection is set to expire on July 31, 2012. NRCS is seeking that it be extended to July 31, 2015, for the Volunteer Interest and Placement Summary form and the Time Sheet form. The collected information will help NRCS to match the skills of individuals who are applying for volunteer work that will further the agency's mission. Information will be collected from potential volunteers who are 14 years of age or older.

DATES: Effective Date: This is effective August 10, 2011.

Comment Date: Submit comments on or before October 11, 2011.

ADDRESSES: Comments should be submitted, identified by Docket Number NRCS-2011-0019, using any of the following methods:

• Government-wide rulemaking Web site: http://regulations,gov. Follow the instructions for sending comments electronically.

• Mail: Attention: Michele Eginoire, National Earth Team Office, Natural Resources Conservation Service, 5140 Park Avenue, Suite C, Des Moines, Iowa 50321.

• Fax: Attention: Michele Eginoire, (515) 290-0325.

• E-mail: Michele.eginoire@ia.usda.gov.

All comments received will become a matter of public record and will be posted without change to http://www.regulations.gov, including any personal information provided.

FOR FURTHER INFORMATION CONTACT: Michele Eginoire, National Volunteer Coordinator, at (515) 289-0325, extension 102; Fax: (515) 289-4561; or e-mail: michele.eginoire@ia.usda.gov.

SUPPLEMENTARY INFORMATION: Collection of this information is necessary to match volunteer assignments to agency mission as required by Federal Personnel Manual, Supplement 296-33, subchapter 3. Agencies are authorized to recruit, train and accept with regard to Civil Service classification laws, rules, or regulations, the services of individuals to serve without compensation. Volunteers may assist in any agency program/project and may perform any activities which agency employees are allowed to do. Volunteers must be at least 14 years of age. Persons interested in volunteering must write, call, e-mail, visit an NRCS office, or NRCS Web site at http://www.nrcs.usda.gov/feature/volunteers/. The forms are available electronically and can be completed electronically.

Description of Information Collection

Title: Volunteer Program—Earth Team; OMB Number: 0578-0024;

Expiration Date of Approval: July 31, 2012 .

Form NRCS-PER-002, Volunteer Interest and Placement Summary, is an optional form and assists the volunteer's supervisor in placing the volunteer in a position which is beneficial to the volunteer and the agency. The form is placed in a volunteer “case file” and will be destroyed 3 years after the volunteer has completed service. In the event that the volunteer is injured, the “case file” will be transferred to an official Personnel Folder.

Estimate of Burden: Public reporting burden for this collection of information is estimated to average 3 minutes per response.

Respondents: Retirees, students, teachers, persons with disabilities, or senior citizens.

Estimated Number of Respondents: 500.

Estimated Number of Responses per Respondent: 1.

Estimated Total Annual Burden on Respondents: 25 hours.

Form NRCS-PER-004, Time Sheet, is also an optional form and provides the volunteer or volunteer's supervisor a simplified method for tracking the volunteer's time. The form is placed in a volunteer “case file” and will be destroyed 3 years after the volunteer has completed service. In the event that the volunteer is injured, the “case file” will be transferred to an official Personnel Folder.

Estimate of Burden: Public reporting burden for this collection of information is estimated to average 1 minute per response.

Respondents: Retirees, students, teachers, persons with disabilities, or senior citizens.

Estimated Number of Respondents: 20,480.

Estimated Number of Responses per Respondent: 2.

Estimated Total Annual Burden on Respondents: 683 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All comments received will be available for public inspection during regular business hours at the National Earth Team Office, Natural Resources Conservation Service, 5140 Park Avenue, Suite C, Des Moines, Iowa 50321.

All responses to this notice will be summarized and included in the request for Office of Management and Budget approval. All comments also will become a matter of public record.

Signed this 2nd day of August 2011, in Washington, DC.
Dave White,
Chief, Natural Resources Conservation Service.

[FR Doc. 2011-20215 Filed 8-9-11; 8:45 am]

BILLING CODE 3410-16-P